DEPARTMENT OF THE INTERIOR

National Park Service

[NPS-SERO-BISO-11057; PMP00EI05.YP0000, PPWONRADE2]

Record of Decision for the Oil and Gas Management Plan, Big South Fork National River and Recreation Area and Obed Wild and Scenic River

AGENCY: National Park Service, Interior.

ACTION: Notice of availability.

SUMMARY: Pursuant to the National Environmental Policy Act (NEPA) of 1969, 42 U.S.C. 4332(2)(C), the National Park Service (NPS) announces the availability of the Record of Decision (ROD) for the Oil and Gas Management Plan (Plan) for Big South Fork National River and Recreation Area and Obed Wild and Scenic River. On September 5, 2012, the Southeast Regional Director, approved the ROD for the plan. The ROD identifies Alternative C (Comprehensive Implementation of 9B Regulations, a New Management Framework for Plugging and Reclamation, and Establishment of Special Management Areas) as the NPS's selected action.

SUPPLEMENTARY INFORMATION: The NPS selected action is Alternative C: Comprehensive Implementation of 9B Regulations, New Management Framework for Plugging and Reclamation, and Establishment of Special Management Areas. This alternative includes proactive enforcement of the NPS regulations pertaining to non-federal oil and gas operations (Title 36 of the Code of Federal Regulations (CFR), Part 9 Subpart B) and existing plans of operations; clear communication with the public and operators about current legal and policy requirements; increased inspections and monitoring to identify sites that are found to be impacting, or threatening to impact, park resources beyond the operations area to bring these sites into compliance; focusing staff resources on the implementation and compliance with the regulatory framework; a new management framework for efficiently completing compliance processes necessary for plugging and reclamation of wells; and establishment of Special Management Areas to provide protection for areas where park resources and values are particularly susceptible to adverse impacts from oil and gas development. The plan will guide oil and gas management in Big South Fork National River and Recreation Area and Obed Wild and Scenic River over the next 15 to 20 years.

The ROD includes a statement of the decision made, a summary of the other alternative considered, the basis for the decision, a description of the environmentally preferable alternative, and a summary of public and agency involvement in the decision-making process. Copies of the ROD may be obtained from the contact listed below or online at http://parkplanning.nps.gov/biso_obri_ ogmp_rod.

FOR FURTHER INFORMATION CONTACT: Niki Stephanie Nicholas, Superintendent, Big South Fork National River and Recreation Area, 4564 Leatherwood Road, Oneida, TN 37841; Telephone: (423) 569-9778; and Obed Wild and Scenic River, 208 North Maiden St., Wartburg, Tennessee 37887; Telephone: (423) 346-6294.

Authority: The authority for publishing this notice is contained in NEPA and Section 6.2 of the NPS Director's Order #12 Handbook.

The responsible official for this Record of Decision is the Regional Director, Southeast Region, National Park Service, 100 Alabama Street SW., 1924 Building, Atlanta, Georgia 30303.

Dated: October 10, 2012.
David Vela,
Regional Director, Southeast Region.

[FR Doc. 2012-27167 Filed 11-6-12; 8:45 am]

BILLING CODE 4310-JD-P